DEPARTMENT OF DEFENSE

Office of the Secretary

[Docket ID DOD-2012-OS-0061]

Proposed Collection; Comment Request

AGENCY: Office of the Under Secretary of Defense (Personnel and Readiness), Office of the Assistant Secretary of Defense (Reserve Affairs).

ACTION: Notice.

SUMMARY: In compliance with Section 350(c)(2)(A) of the Paperwork Reduction Act of 1995, the Office of the Under Secretary of Defense (Personnel and Readiness (Reserve Affairs)) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 6, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to CNA Attn: Ms. Jennifer Atkin, 4825 Mark Center Drive, Alexandria, VA 22311-1850 or call (703) 824-2885.

Title; Associated Form; and OMB Number: Impact of ChalleNGe on Participants' Noncognitive Skills, OMB Control Number: 0704-TBD.

Needs and Uses: The information collection requirement is necessary to obtain data on the noncognitive skills of National Guard Youth ChalleNGe program participants at the beginning and the end of their participation in the program. The data will be used by DoD to evaluate whether the ChalleNGe program positively impacts participants' noncognitive skills. The data will also be used to determine whether there are program-specific differences in terms of the impact.

Affected Public: Individuals or households.

Annual Burden Hours: 334 hours.

Number of Respondents: 2,000 (1,200 for the initial survey plus 800 for the survey at the completion of the program).

Responses per Respondent: 1.

Average Burden per Response: 10 minutes.

Frequency: One time.

SUPPLEMENTARY INFORMATION:

Summary of Information Collection

Respondents are cadets enrolled in the National Guard Youth ChalleNGe program. The ChalleNGe program, operated jointly by states and the state National Guard units, targets at-risk male and female youth ages 16-18. Today there are 34 programs in 28 states (plus Puerto Rico). Several states have multiple campuses. It is a 22-week residential program that includes instruction on academic subjects in an effort to help cadets attain a GED (General Education Development) credential. The program also focuses on noncognitive skills (those skills which are not academic in nature including motivation and perseverance) which have been shown to be a determining factor in educational and economic success. To date, no research has been done to assess the degree to which the ChalleNGe program improves participants' noncognitive skills. This information collection will provide data on the noncognitive skills of program participants both before and after their completion of the program. The data will be used to evaluate the program's effectiveness in this area.

Dated: May 30, 2012.
Aaron Siegel,
Alternate OSD Federal Register Liaison Officer, Department of Defense.

[FR Doc. 2012-13485 Filed 6-4-12; 8:45 am]

BILLING CODE 5001-06-P